Title 3—

The President

Presidential Determination No. 2015-12 of September 14, 2015

Presidential Determination on Major Drug Transit or Major Illicit Drug Producing Countries for Fiscal Year 2016

Memorandum for the Secretary of State

Pursuant to section 706(1) of the Foreign Relations Authorization Act, Fiscal Year 2003 (Public Law 107-228) (FRAA), I hereby identify the following countries as major drug transit and/or major illicit drug producing countries: Afghanistan, The Bahamas, Belize, Bolivia, Burma, Colombia, Costa Rica, Dominican Republic, Ecuador, El Salvador, Guatemala, Haiti, Honduras, India, Jamaica, Laos, Mexico, Nicaragua, Pakistan, Panama, Peru, and Venezuela.

A country's presence on the foregoing list is not a reflection of its government's counternarcotics efforts or level of cooperation with the United States. Consistent with the statutory definition of a major drug transit or drug producing country set forth in section 481(e)(2) and (5) of the Foreign Assistance Act of 1961, as amended (FAA), the reason major drug transit or illicit drug producing countries are placed on the list is the combination of geographic, commercial, and economic factors that allow drugs to transit or be produced, even if a government has carried out the most assiduous narcotics control law enforcement measures.

Pursuant to section 706(2)(A) of the FRAA, I hereby designate Bolivia, Burma, and Venezuela as countries that have failed demonstrably during the previous 12 months to adhere to their obligations under international counternarcotics agreements and take the measures set forth in section 489(a)(l) of the FAA. Included in this report are justifications for the determinations on Bolivia, Burma, and Venezuela, as required by section 706(2)(B) of the FRAA. Explanations for these decisions are published with this determination.

I have also determined, in accordance with provisions of section 706(3)(A) of the FRAA, that support for programs to aid Burma and Venezuela are vital to the national interests of the United States.

This determination also highlights the importance of international cooperation and certain countries of particular concern to the United States relevant to our drug-control policies and programs.

The International Framework for Narcotics and Crime Control

The United States remains a leader in galvanizing international efforts to cooperate in addressing the full range of negative consequences tied to the drug trade and its links to criminal enterprise. The global framework for this cooperation is articulated in the three U.N. drug-control conventions as well as the U.N. conventions against transnational organized crime and corruption. The United States defines its priorities in this field in the annual National Drug Control Strategy, the 2011 U.S. Strategy to Combat Transnational Organized Crime, and other Federal public policy guidelines.

The United States shares the view of the international community that the U.N. drug-control conventions are resilient enough to unify countries that often hold divergent views about the international narcotics problem, while at the same time providing a framework upon which to build the best solutions to it. The U.N. drug-control conventions allow sovereign nations the flexibility to develop and adapt the most appropriate policies and programs in keeping with their own national circumstances, while also achieving the conventions' aims. These aims include ensuring the availability of controlled substances for medical and scientific purposes, preventing drug abuse and addiction, and suppressing drug trafficking and related criminal activities.

In April 2016, member states, the scientific community, and civil society will assemble in New York City for the U.N. General Assembly Special Session on drugs (UNGASS) to assess the successes and shortcomings of drug policy and to identify ways to meet new challenges in the future. The UNGASS is an opportunity to improve and develop international drug- control policies, in particular with regard to (1) increasing international efforts to address the world drug problem from a public health perspective; (2) sharing best practices in criminal justice reform; and (3) strengthening international law enforcement cooperation.

The world drug problem is complex and dynamic. This determination focuses selectively on those countries in Asia and the Americas that have been designated as major drug producing or transit countries that significantly impact the United States. The global challenges also include sophisticated crime networks that traffic narcotics along coastal regions of Africa, across the steppes of Central Asia, and into developed markets of Europe, East Asia, and Oceania.

Illegal poppy cultivation in Afghanistan is among the most difficult international drug-control problems. For 15 of the last 16 years, Afghanistan has been the world's largest producer of opium poppy. The United States Government estimated that in 2014 Afghanistan cultivated 211,000 hectares of opium poppy and produced 6,300 metric tons of opium (up 7 percent and 15 percent over 2013 levels, respectively).

A number of U.S. programs, in collaboration with multinational partners, have had positive results in developing economically viable alternatives for Afghan farmers. Successful programs include the U.S.-funded Good Performers Initiative that rewards provinces demonstrating verifiable counternarcotics achievements against defined standards with development assistance for alternative livelihood projects. The program promotes holistic and integrated action on counternarcotics and encourages farmers to forgo poppy cultivation by strengthening and diversifying alternatives to illegal poppy cultivation. United States funds also support the development of the specialized drug interdiction units of the Afghan Counternarcotics Police. In 2014, the Afghan police seized 23 metric tons of opium poppy. At the December 2014 London Conference on Afghanistan, the Kabul government pledged to intensify its drug-control efforts. United States and international experts agree that political resolve is integral in efforts to combat the production and trade of Afghan-sourced opiates. President Ghani has expressed a clear commitment to address Afghanistan's narcotics crisis comprehensively. Most recently, the Afghan Ministry of Counternarcotics shared with United States Government officials its draft National Drug Action Plan, which covers the full spectrum of government efforts for interdiction, eradication, treatment, education, and alternative development.

The Colombo Plan for Cooperative Economic and Social Development in Asia and the Pacific is an organization of 21 countries dedicated to providing technical assistance on drug-control issues to Afghanistan and the region. The Colombo Plan has taken the lead in strengthening Afghanistan's drug treatment services, especially for vulnerable populations such as women, children, and the homeless.

The Golden Triangle, which includes Burma and Laos, is also central to the Colombo Plan's regional focus. Burma and Laos are the second and third largest illegal opium poppy cultivation countries, respectively. As in Afghanistan, countering illegal drug cultivation in Burma and Laos will require strengthening of state institutions and sustainable economic development.

The international community is also taking steps to focus attention on illegal drug activity in China, especially precursor chemicals produced in China that are diverted from legitimate commerce to criminal elements for the production of illicit plant-based and synthetic drugs.

Mexico, the Caribbean, and Central America

Through the Merida Initiative, the United States and Mexico have engaged in an unprecedented partnership to break the power and impunity of transnational criminal organizations; strengthen border, air, and maritime controls; expand the capabilities and professionalism of Mexican law enforcement at the federal, state, and local levels; and improve the capacity of justice systems to investigate and prosecute cases. The two countries also collaborate to further respect for human rights and the rule of law, increase citizen security, and reduce the demand for drugs. The Merida Initiative is guided by four goals: (1) disrupt the capacity of organized crime to operate; (2) institutionalize the capacity to sustain the rule of law; (3) create a 21st century border; and (4) build strong and resilient communities. Each of these goals has a positive impact on our countries' ability to combat narcotics trafficking. For example, the United States has provided scanners, x-ray machines, other non-intrusive inspection equipment, as well as trained canines, to enhance Mexican authorities' ability to detect illicit goods at key checkpoints and ports of entry along the border, resulting in significant seizures of illicit drugs, currency, weapons, and explosives. The Mexican government has also undertaken innovative efforts to implement alternatives to incarceration for non-violent, low-level, drug-use offenders by instituting drug treatment courts in many Mexican states.

The seven Central American and four Caribbean nations are included in this year's determination as major drug transit countries that impact illegal drug activities and consumption in the United States. According to seizure data of cocaine destined for U.S. markets, an estimated 86 percent transited through the Central American corridor and the remaining 14 percent traveled via the Caribbean in 2014.

In recent years, Haiti has demonstrated serious political will as a regional partner to counter transnational criminal activity. In 2014, for example, with U.S. technical assistance and financial support, Haiti took meaningful steps to enhance the capabilities of its Police Brigade in the Fight against Narcotics Trafficking (BLTS). United States assistance continues to help improve Haiti's ability to address the drug problem, in particular by strengthening the operational capacity of its national law enforcement; providing infrastructure and equipment enhancements; and, facilitating training opportunities. Institution building is also being carried out to strengthen Haiti's maritime interdiction capabilities, which is a fundamental tool given the large percentage of drugs smuggled via its surrounding waterways. Working with the U.S. Coast Guard and the Drug Enforcement Administration, two operations in Haiti resulted in the seizure of almost a metric ton of cocaine and nearly five metric tons of marijuana. In 2014, Haiti also signed a law formally criminalizing public corruption, establishing standard penalties for corrupt practices by Haiti's officials.

South America

Within South America, Colombia and Peru demonstrate highly effective leadership in countering illegal drug trafficking and transnational crime. While Peru remains the top cocaine producer in the world, the Peruvian government has a comprehensive 5-year counternarcotics strategy to aggressively eradicate illicit coca, implement alternative development programs, interdict illicit narcotics, and reduce domestic drug abuse. With support from the United States, Peru exceeded its historic 2014 goal to eradicate 30,000 hectares of illicit coca, eradicating a total of 31,205 hectares. Peru has achieved success establishing state institutions and building infrastructure in coca-producing regions, and developing alternative livelihoods for farmers previously dependent on illicit cultivation. Peru has also achieved historic results in seizures of cocaine, netting nearly 30 metric tons in 2014. In total, 300 metric tons of cocaine was removed from global supply through Peruvian interdiction and eradication.

Colombia also continues to be a strong partner on counternarcotics. Annually, Colombian authorities seize well over 100 metric tons of cocaine. Due to sustained coca eradication efforts and drug enforcement activity, coca cultivation dropped 52 percent between 2007 and 2013, and cocaine production potential declined by 58 percent for the same time period. The government made substantial gains in establishing a state presence in remote areas, developing alternatives for coca producers, and improving the capacity of its law enforcement and judicial institutions. Calendar year 2014, however, saw a reversal in illegal crop cultivation, due primarily to increased cultivation in areas off limits to aerial eradication. Colombia is also exporting its hard-won security expertise to third countries. From 2009 to 2014, the Colombian National Police reported training nearly 26,500 international police personnel from over 61 countries from Latin America, Africa, and Europe.

The Way Forward

The United States will continue to expand and enhance collaborative counternarcotics and anti-crime partnerships to advance common goals and increase citizen security. The United States will also continue to support like-minded nations through evidence-based technical assistance to modernize law enforcement, reform justice systems, support training, and develop drug demand reduction and treatment programs. Such global undertakings aim to build sustainable national capacity and permanent international partnerships to counter the threat to international security posed by the world drug trade and other illegal activities associated with transnational organized crime.

You are hereby authorized and directed to submit this report, with the enclosed memoranda of justification regarding Bolivia, Burma, and Venezuela, under section 706 of the FRAA, to the Congress, and publish it in the Federal Register.

THE WHITE HOUSE,

Washington, September 14, 2015

[FR Doc. 2015-24110

Filed 9-18-15; 11:15 am]

Billing code 4710-10-P